FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011117-057.

Title: United States/Australasia Discussion Agreement.

Parties: ANL Singapore Pte Ltd.; CMA-CGM.; Hamburg-Süd; Mediterranean Shipping Company S.A.; and Pacific International Lines (PTE) LTD.

Filing Party: Wayne R. Rohde, Esq.; Cozen O'Connor; 1200 Nineteenth Street NW.; Washington, DC 20036.

Synopsis: The amendment would add Compagnie Maritime Marfret S.A. as a party to the Agreement.

Agreement No.: 011574-020.

Title: Pacific Islands Discussion Agreement.

Parties: Hamburg Sudamerikanische Dampfschifffahrts-Gesellschaft KG doing business under its own name and the name Fesco Australia/New Zealand Liner Services (FANZL); and Polynesia Line Ltd.

Filing Party: Wayne R. Rohde, Esq.; Cozen O'Conner; 1200 Nineteenth Street NW.; Washington, DC 20036.

Synopsis: The amendment would add Compagnie Maritime Marfret S.A. as a party to the Agreement.

Agreement No.: 011223-054.

Title: Transpacific Stabilization Agreement.

Parties: American President Lines, Ltd. and APL Co. PTE Ltd.; (operating as a single carrier); Maersk Line A/S; CMA CGM, S.A.; COSCO Container Lines Company Ltd; Evergreen Line Joint Service Agreement; Hanjin Shipping Co., Ltd.; Hapag-Lloyd AG; Hyundai Merchant Marine Co., Ltd.; Mediterranean Shipping Company; Orient Overseas Container Line Limited; Yangming Marine Transport Corp.; and Zim Integrated Shipping Services, Ltd.

Filing Party: David F. Smith, Esq.; Cozen O'Conner; 1200 Nineteenth Street NW.; Washington, DC 20036.

Synopsis: The amendment revises Appendix A of the TSA Agreement to remove Nippon Yusen Kaisha Line as a party to the Agreement, effective November 16, 2016.

Agreement No.: 012441.

Title: HLUSA/ARC Cooperative Working Agreement.

Parties: American Roll-On Roll-Off Carrier, LLC and Hapag-Lloyd USA, LLC.

Filing Party: Wayne Rohde; Cozen O'Connor; 1200 Nineteenth Street NW.; Washington, DC 20036.

Synopsis: The Agreement authorizes HLUSA and ARC to engage in ad hoc space chartering in the trades between ports on the Atlantic and Gulf Coasts of the United States on the one hand and ports in North Europe and on the Baltic, Mediterranean and Red Seas and on the Persian Gulf on the other hand. It also authorizes the parties to discuss possible operational cooperation in those trades.

Agreement No.: 012442.

Title: Miami Marine Terminal Conference Agreement.

Parties: Port of Miami Terminal Operating Company, L.C.; and South Florida Container Terminal, LLC.

Filing Party: David F. Smith, Esq.; Cozen O'Conner; 1200 Nineteenth Street NW.; Washington, DC 20036.

Synopsis: The Agreement would permit the parties to (a) establish and maintain terminal rates, charges, classifications, rules, regulations, and practices at terminals owned and/or operated by them at the Port of Miami, and (b) meet, discuss, and agree on issues regarding their respective operations, facilities, and services at the Port, in order to improve services, reduce costs, increase efficiency, and otherwise optimize conditions in order to better service the interests of the shipping public at the Port.

By Order of the Federal Maritime Commission.
Dated: November 18, 2016.
Rachel E. Dickon,
Assistant Secretary.

[FR Doc. 2016-28241 Filed 11-22-16; 8:45 am]

BILLING CODE 6730-01-P